DEPARTMENT OF COMMERCE

International Trade Administration

[A-570-016, C-570-017]

Certain Passenger Vehicle and Light Truck Tires From the People's Republic of China: Amended Final Affirmative Antidumping Duty Determination and Antidumping Duty Order; and Amended Final Affirmative Countervailing Duty Determination and Countervailing Duty Order

AGENCY: Enforcement and Compliance, International Trade Administration, Department of Commerce.

SUMMARY: Based on affirmative final determinations by the Department of Commerce (the Department) and the International Trade Commission (the ITC), the Department is issuing antidumping duty (AD) and countervailing duty (CVD) orders on certain passenger vehicle and light truck tires (passenger tires) from the People's Republic of China (the PRC). Also, as explained in this notice, the Department is amending its final affirmative CVD determination to correct the rate assigned to Shandong Yongsheng Rubber Group Co., Ltd. (Yongsheng). In addition, the Department is amending the final affirmative AD determination to correct the rate assigned to the GITI companies ¹ and to the separate rate companies.

¹ Giti Tire Global Trading Pte. Ltd., GITI Radial Tire (Anhui) Company Ltd., GITI Tire (Fujian) Company Ltd., GITI Tire (Hualin) Company Ltd., and GITI Tire (USA) Ltd.

DATES: Effective date: August 10, 2015.

FOR FURTHER INFORMATION CONTACT: Emily Halle at (202) 482-0176 (CVD); or Toni Page at (202) 482-1398 (AD), AD/CVD Operations, Enforcement and Compliance, International Trade Administration, U.S. Department of Commerce, 14th Street and Constitution Avenue NW., Washington, DC 20230.

SUPPLEMENTARY INFORMATION:

Background

On June 18, 2015, with respect to passenger tires from the PRC,² the Department published its final affirmative determination of sales at less than fair value (LTFV) and its final affirmative determination that countervailable subsidies are being provided to producers and exporters of passenger tires from the PRC.³ On August 3, 2015, pursuant to sections 735(d) and 705(d) of the Tariff Act of 1930, as amended (the Act), the ITC notified the Department of its affirmative final determination that an industry in the United States is materially injured within the meaning of sections 735(b)(1)(A)(i) and 705(b)(1)(A)(i) of the Act by reason of LTFV imports and subsidized imports of subject merchandise from the PRC, and its determination that critical circumstances do not exist with respect to imports of subject merchandise from the PRC that are subject to the Department's affirmative critical circumstances finding.⁴

² See Antidumping Duty Investigation of Certain Passenger Vehicle and Light Truck Tires From the People's Republic of China: Final Determination of Sales at Less Than Fair Value and Final Affirmative Determination of Critical Circumstances, In Part, 80 FR 34893 (June 18, 2015) (AD Final Determination).

³ See Countervailing Duty Investigation of Certain Passenger Vehicle and Light Truck Tires from the People's Republic of China: Final Affirmative Determination, and Final Affirmative Critical Circumstances Determination, in Part, 80 FR 34888 (June 18, 2015) (CVD Final Determination).

⁴ See ITC Notification Letter to the Deputy Assistant Secretary for Enforcement and Compliance referencing ITC Investigation Nos. 701-TA-522 and 731-TA-1258 (August 3, 2015) (ITC Notification).

Scope of the Orders

The scope of these orders is passenger vehicle and light truck tires. Passenger vehicle and light truck tires are new pneumatic tires, of rubber, with a passenger vehicle or light truck size designation. Tires covered by these orders may be tube-type, tubeless, radial, or non-radial, and they may be intended for sale to original equipment manufacturers or the replacement market.

Subject tires have, at the time of importation, the symbol “DOT” on the sidewall, certifying that the tire conforms to applicable motor vehicle safety standards. Subject tires may also have the following prefixes or suffix in their tire size designation, which also appears on the sidewall of the tire:

Prefix designations:

P—Identifies a tire intended primarily for service on passenger cars.

LT—Identifies a tire intended primarily for service on light trucks.

Suffix letter designations:

LT—Identifies light truck tires for service on trucks, buses, trailers, and multipurpose passenger vehicles used in nominal highway service.

All tires with a “P” or “LT” prefix, and all tires with an “LT” suffix in their sidewall markings are covered by this investigation regardless of their intended use.

In addition, all tires that lack a “P” or “LT” prefix or suffix in their sidewall markings, as well as all tires that include any other prefix or suffix in their sidewall markings, are included in the scope, regardless of their intended use, as long as the tire is of a size that is among the numerical size designations listed in the passenger car section or light truck section of the Tire and Rim Association Year Book, as updated annually, unless the tire falls within one of the specific exclusions set out below.

Passenger vehicle and light truck tires, whether or not attached to wheels or rims, are included in the scope. However, if a subject tire is imported attached to a wheel or rim, only the tire is covered by the scope.

Specifically excluded from the scope are the following types of tires:

(1) Racing car tires; such tires do not bear the symbol “DOT” on the sidewall and may be marked with “ZR” in size designation;

(2) new pneumatic tires, of rubber, of a size that is not listed in the passenger car section or light truck section of the Tire and Rim Association Year Book;

(3) pneumatic tires, of rubber, that are not new, including recycled and retreaded tires;

(4) non-pneumatic tires, such as solid rubber tires;

(5) tires designed and marketed exclusively as temporary use spare tires for passenger vehicles which, in addition, exhibit each of the following physical characteristics:

(a) The size designation and load index combination molded on the tire's sidewall are listed in Table PCT-1B (“T” Type Spare Tires for Temporary Use on Passenger Vehicles) of the Tire and Rim Association Year Book,

(b) the designation “T” is molded into the tire's sidewall as part of the size designation, and,

(c) the tire's speed rating is molded on the sidewall, indicating the rated speed in MPH or a letter rating as listed by Tire and Rim Association Year Book, and the rated speed is 81 MPH or a “M” rating;

(6) tires designed and marketed exclusively for specialty tire (ST) use which, in addition, exhibit each of the following conditions:

(a) The size designation molded on the tire's sidewall is listed in the ST sections of the Tire and Rim Association Year Book,

(b) the designation “ST” is molded into the tire's sidewall as part of the size designation,

(c) the tire incorporates a warning, prominently molded on the sidewall, that the tire is “For Trailer Service Only” or “For Trailer Use Only”,

(d) the load index molded on the tire's sidewall meets or exceeds those load indexes listed in the Tire and Rim Association Year Book for the relevant ST tire size, and

(e) either

(i) the tire's speed rating is molded on the sidewall, indicating the rated speed in MPH or a letter rating as listed by Tire and Rim Association Year Book, and the rated speed does not exceed 81 MPH or an “M” rating; or

(ii) the tire's speed rating molded on the sidewall is 87 MPH or an “N” rating, and in either case the tire's maximum pressure and maximum load limit are molded on the sidewall and either

(1) both exceed the maximum pressure and maximum load limit for any tire of the same size designation in either the passenger car or light truck section of the Tire and Rim Association Year Book; or

(2) if the maximum cold inflation pressure molded on the tire is less than any cold inflation pressure listed for that size designation in either the passenger car or light truck section of the Tire and Rim Association Year Book, the maximum load limit molded on the tire is higher than the maximum load limit listed at that cold inflation pressure for that size designation in either the passenger car or light truck section of the Tire and Rim Association Year Book;

(7) tires designed and marketed exclusively for off-road use and which, in addition, exhibit each of the following physical characteristics:

(a) The size designation and load index combination molded on the tire's sidewall are listed in the off-the-road, agricultural, industrial or ATV section of the Tire and Rim Association Year Book,

(b) in addition to any size designation markings, the tire incorporates a warning, prominently molded on the sidewall, that the tire is “Not For Highway Service” or “Not for Highway Use”,

(c) the tire's speed rating is molded on the sidewall, indicating the rated speed in MPH or a letter rating as listed by the Tire and Rim Association Year Book, and the rated speed does not exceed 55 MPH or a “G” rating, and

(d) the tire features a recognizable off-road tread design.

The products covered by the orders are currently classified under the following Harmonized Tariff Schedule of the United States (HTSUS) subheadings: 4011.10.10.10, 4011.10.10.20, 4011.10.10.30, 4011.10.10.40, 4011.10.10.50, 4011.10.10.60, 4011.10.10.70, 4011.10.50.00, 4011.20.10.05, and 4011.20.50.10. Tires meeting the scope description may also enter under the following HTSUS subheadings: 4011.99.45.10, 4011.99.45.50, 4011.99.85.10, 4011.99.85.50, 8708.70.45.45, 8708.70.45.60, 8708.70.60.30, 8708.70.60.45, and 8708.70.60.60. While HTSUS subheadings are provided for convenience and for customs purposes, the written description of the subject merchandise is dispositive.

Amendment to the AD Final Determination

On June 11, 2015, the Department issued its affirmative final determination in the AD investigation.⁵ On June 22, 2015, Petitioner ⁶ submitted timely ministerial error allegations. On June 29, 2015, the GITI companies and the Sailun Group Co., Ltd. (Sailun Group), respondents in the AD investigation, submitted timely rebuttal comments to the Petitioner's allegations.⁷ No other interested party submitted ministerial error allegations or rebutted Petitioner's submission.

⁵ See AD Final Determination.

⁶ Collectively, United Steel, Paper and Forestry, Rubber, Manufacturing, Energy, Allied Industrial and Service Workers International Union, AFL-CIO, CLC.

⁷ See Letter from the GITI companies, “Passenger Vehicle and Light Truck Tires from the People's Republic of China: Reply to Ministerial Error Comments—Giti Tire Global Trading Pte. Ltd.,” June 29, 2015; see also Letter from the Sailun Group, “Sailun's Reply to Petitioner's Ministerial Error Allegations in the Antidumping Duty Investigation on Certain Passenger Vehicle and Light Truck Tires from the People's Republic of China,” June 29, 2015.

After analyzing the comments and rebuttals received, we determine, in accordance with section 735(e) of the Act and 19 CFR 351.224(e), that we made ministerial errors in our calculations for the AD Final Determination with respect to the GITI companies.⁸ This amended final AD determination corrects these errors and revises the weighted-average margin rate for the GITI companies. Because the margin rate for the separate rate companies is based on the rates for the GITI companies and the Sailun Group, and the rate for the GITI companies changed due to the aforementioned ministerial errors, we have revised the calculation for the weighted-average margin rate for the separate rate companies in this amended final AD determination.⁹ The amended weighted-average margin rates are listed in the table below. The amended weighted-average margin rates provided for all exporter/producer combinations listed in the table are adjusted, where appropriate, for export subsidies and estimated domestic subsidy pass-through.

⁸ For a detailed discussion of all alleged ministerial errors, as well as the Department's analysis, see the memorandum, “Amended Final Determination of the Antidumping Duty Investigation: Allegations of Ministerial Errors,” dated concurrently with this Notice (AD Ministerial Error Memorandum).

⁹ See AD Ministerial Error Memorandum.

Amendment to the CVD Final Determination

On June 11, 2015, the Department issued its affirmative final determination in the CVD investigation.¹⁰ On June 17, 2015, Petitioner and GITI Tire (Fujian) Co., Ltd. (GITI Fujian), a respondent in the CVD investigation, submitted timely ministerial error allegations and requested that the Department correct the alleged ministerial errors in the subsidy rate calculations.¹¹ On June 22, 2015, Petitioner, GITI Fujian, and Yongsheng submitted timely rebuttal comments to these ministerial error allegations.¹² No other interested party submitted ministerial error allegations or rebuttals to Petitioner's or GITI Fujian's submissions.

¹⁰ See CVD Final Determination.

¹¹ See Letter from Petitioner, “Countervailing Duty Investigation on Certain Passenger Vehicle and Light Truck Tires from the People's Republic of China (C-570-017)—Petitioner's Ministerial Error Comments,” June 17, 2015 (Petitioner's Ministerial Error Comments); Letter from GITI Fujian, “Passenger Vehicle and Light Truck Tires from the People's Republic of China: Ministerial Error Comments,” June 17, 2015 (GITI Fujian Ministerial Error Comments).

¹² See Letter from Petitioner, “Countervailing Duty Investigation on Certain Passenger Vehicle and Light Truck Tires from the People's Republic of China (C-570-017)—Petitioner's Reply to GITI Tire's Ministerial Error Comments,” June 22, 2015; Letter from GITI Fujian, “Passenger Vehicle and Light Truck Tires from the People's Republic of China: Ministerial Error Comments—Reply,” June 22, 2015; Letter from Yongsheng, “Certain Passenger Vehicle and Light Truck Tires from the People's Republic of China: Ministerial Error Reply of Shandong Yongsheng Rubber Group Co., Ltd.,” June 22, 2015.

After analyzing the comments and rebuttals received, we determined, in accordance with section 705(e) of the Act and 19 CFR 351.224(e), that we made ministerial errors in certain calculations for the CVD Final Determination with respect to Yongsheng. This amended final CVD determination corrects these errors and revises the ad valorem subsidy rate for Yongsheng. The amended estimated ad valorem subsidy rate for Yongsheng is 116.73 percent.

Antidumping Duty Order

As stated above, on August 3, 2015, in accordance with section 735(d) of the Act, the ITC notified the Department of its final determination in its investigation, in which it found that an industry in the United States is materially injured within the meaning of section 735(b)(1)(A)(i) of the Act by reason of imports of passenger tires from the PRC, and that critical circumstances do not exist with respect to imports of subject merchandise from the PRC that are subject to the Department's affirmative critical circumstances finding.¹³ Because the ITC determined that imports of passenger tires from the PRC are materially injuring a U.S. industry, unliquidated entries of such merchandise from the PRC, entered or withdrawn from warehouse, for consumption are subject to the assessment of antidumping duties.

¹³ See ITC Determination.

Therefore, in accordance with section 736(a)(1) of the Act, the Department will direct U.S. Customs and Border Protection (CBP) to assess, upon further instruction by the Department, antidumping duties equal to the amount by which the normal value of the merchandise exceeds the export price (or constructed export price) of the merchandise, for all relevant entries of passenger tires from the PRC. These antidumping duties will be assessed on unliquidated entries of passenger tires from the PRC entered, or withdrawn from warehouse, for consumption on or after January 27, 2015, the date of publication of the AD Preliminary Determination,¹⁴ but will not include entries occurring after the expiration of the provisional measures period and before publication of the ITC's final injury determination as further described below.

¹⁴ See Certain Passenger Vehicle and Light Truck Tires From the People's Republic of China: Preliminary Determination of Sales at Less Than Fair Value; Preliminary Affirmative Determination of Critical Circumstances; In Part and Postponement of Final Determination, 80 FR 4250 (January 27, 2015) (AD Preliminary Determination).

Continuation of Suspension of Liquidation (AD)

In accordance with section 735(c)(1)(B) of the Act, the Department will instruct CBP to continue to suspend liquidation of all appropriate entries of passenger tires from the PRC as described in the “Scope of the Orders” section, which were entered, or withdrawn from warehouse, for consumption on or after January 27, 2015, the date of publication in the Federal Register of the notice of an affirmative preliminary determination that passenger tires are being, or are likely to be, sold in the United States at LTFV. Further, consistent with our practice, where the product from the PRC under investigation is also subject to a concurrent CVD investigation, the Department will instruct CBP to require a cash deposit ¹⁵ equal to the weighted-average amount by which the normal value exceeds U.S. price, adjusted where appropriate for export subsidies and estimated domestic subsidy pass-through.¹⁶ The cash deposit rates are as follows: (1) For each exporter/producer combination listed in the table below, the cash deposit rate will be equal to the dumping margin listed for that exporter/producer combination in the table, adjusted as appropriate for export subsidies and estimated domestic subsidy pass-through; (2) for all other combinations of PRC exporters/producers of the merchandise under consideration, the cash deposit rate will be equal to the dumping margin established for the PRC-wide entity, adjusted as appropriate for export subsidies and estimated subsidy pass-through; and (3) for all non-PRC exporters of the merchandise under consideration which have not received their own separate rate above, the cash deposit rate will be equal to the cash deposit rate applicable to the PRC exporter/producer combination that supplied that non-PRC exporter. These suspension of liquidation instructions will remain in effect until further notice.

¹⁵ See Modification of Regulations Regarding the Practice of Accepting Bonds During the Provisional Measures Period in Antidumping and Countervailing Duty Investigations, 76 FR 61042 (October 3, 2011).

¹⁶ See sections 772(c)(1)(C) and 777A(f) of the Act.

Accordingly, effective on the date of publication of the ITC's final affirmative injury determination, CBP will require, at the same time as importers would normally deposit estimated duties on this subject merchandise, a cash deposit equal to the estimated weighted-average dumping margins indicated below, adjusted, where appropriate, for export subsidies and estimated domestic subsidy pass-through, as discussed above.¹⁷

¹⁷ With respect to the final affirmative countervailing duty determination in the companion investigation, because the provisional measures period has expired, the Department will only order the resumption of the suspension of liquidation, and require cash deposits for countervailing duties equal to the final subsidy rates, upon issuance of a final affirmative injury determination by the ITC. As a result, the Department will make an adjustment to AD cash deposits, where appropriate, for export subsidies and estimated domestic subsidy pass-through as of the date of publication of the ITC's final affirmative injury determination.

Provisional Measures (AD)

Section 733(d) of the Act states that instructions issued pursuant to an affirmative preliminary determination in an AD investigation may not remain in effect for more than four months except where exporters representing a significant proportion of exports of the subject merchandise request the Department to extend that four month period to no more than six months. At the request of the GITI companies, who account for a significant proportion of passenger tires from the PRC, we extended the four-month period to no more than six months in this case.¹⁸ The Department published the preliminary determination in the AD investigation on January 27, 2015. Therefore, the six-month period beginning on the date of publication of the preliminary determination in the AD investigation ended on July 26, 2015. Furthermore, section 737(b) of the Act states that definitive duties are to begin on the date of publication of the ITC's final injury determination.

¹⁸ See Certain Passenger Vehicle and Light Truck Tires From the People's Republic of China: Preliminary Determination of Sales at Less Than Fair Value; Preliminary Affirmative Determination of Critical Circumstances; In Part and Postponement of Final Determination, 80 FR 4250 at 4253 (January 27, 2015) (AD Preliminary Determination).

Therefore, in accordance with section 733(d) of the Act and our practice, we will instruct CBP to terminate the suspension of liquidation and to liquidate, without regard to antidumping duties, unliquidated entries of passenger vehicle tires from the PRC, entered, or withdrawn from warehouse, for consumption on or after July 26, 2015, the date the provisional measures expired, until and through the day preceding the date of publication of the ITC's final injury determination in the Federal Register.

Estimated Weighted-Average Dumping Margins

The estimated weighted-average dumping margins are as follows.¹⁹

¹⁹ As explained in the AD Final Determination, we will adjust cash deposit rates by the amount of export subsidies and domestic subsidy pass-throughs, where appropriate. See AD Final Determination, 80 FR at 34897. As a result of the adjustments for export subsidies and domestic subsidy pass-throughs, the GITI companies' cash deposit rate will be 15.31 percent; the Sailun Group's cash deposit rate will be 0.00 percent; Cooper Tire & Rubber Company's, Cooper (Kunshan) Tire Co., Ltd.'s, and Cooper Chengshan (Shandong) Tire Co., Ltd's. (collectively, Cooper) cash deposit rate will be 11.12 percent; the other separate rate entities' (besides Cooper) cash deposit rate will be 8.72 percent; and the PRC-wide entity's cash deposit rate will be 76.46 percent. See also CVD Final Determination and Memorandum to the File, “Certain Passenger Vehicle and Light Truck from the People's Republic of China: Double Remedies Final Calculation Memorandum” (June 11, 2015).

Exporter(s) | Producer(s) | Weighted- average dumping margin (percent)
Giti Tire Global Trading Pte. Ltd., Giti Tire (USA) Ltd., Giti Radial Tire (Anhui) Company Ltd., Giti Tire (Fujian) Company Ltd., Giti Tire (Hualin) Company Ltd., (Collectively, the GITI Companies) | Giti Radial Tire (Anhui) Company Ltd., Giti Tire (Fujian) Company Ltd., Giti Tire (Hualin) Company Ltd | 30.74
Sailun Group Co., Ltd. (aka Sailun Jinyu Group Co., Ltd.), Sailun Tire International Corp., Shandong Jinyu Industrial Co., Ltd., Jinyu International Holding Co., Limited, Seatex International Inc., Dynamic Tire Corp., Husky Tire Corp., Seatex PTE. Ltd., (Collectively, Sailun Group) | Sailun Group Co., Ltd. (aka Sailun Jinyu Group Co., Ltd.), Shandong Jinyu Industrial Co., Ltd | 14.35
Cooper Tire & Rubber Company | Cooper Chengshan (Shandong) Tire Co., Ltd., Cooper (Kunshan) Tire Co., Ltd | 25.84
Cooper Chengshan (Shandong) Tire Co., Ltd | Cooper Chengshan (Shandong) Tire Co., Ltd | 25.84
Cooper (Kunshan) Tire Co., Ltd | Cooper (Kunshan) Tire Co., Ltd | 25.84
Best Choice International Trade Co., Limited | Qingdao Sentury Tire Co., Ltd., Shandong Haohua Tire Co., Ltd., Beijing Capital Tire Co., Ltd | 25.84
Bridgestone (Wuxi) Tire Co., Ltd | Bridgestone (Wuxi) Tire Co., Ltd | 25.84
Bridgestone Corporation | Bridgestone (Wuxi) Tire Co., Ltd | 25.84
Cheng Shin Tire & Rubber (China) Co., Ltd | Cheng Shin Tire & Rubber (China) Co., Ltd., Cheng Shin Tire & Rubber (Chongqing) Co., Ltd | 25.84
Crown International Corporation | Shandong Guofeng Rubber Plastics Co., Ltd., Shandong Haohua Tire Co., Ltd., Shandong Jinyu Industrial Co., Ltd., Doublestar-Dongfeng Tyre Co., Ltd., Shengtai Group Co., Ltd., Qingdao Doublestar Tire Industrial Co., Ltd., Shandong Yongtai Chemical Co., Ltd | 25.84
Goodyear Dalian Tire Company Limited | Goodyear Dalian Tire Company Limited | 25.84
Guangzhou Pearl River Rubber Tyre Ltd | Guangzhou Pearl River Rubber Tyre Ltd | 25.84
Hankook Tire China Co., Ltd | Hankook Tire China Co., Ltd | 25.84
Hebei Tianrui Rubber Co., Ltd | Hebei Tianrui Rubber Co., Ltd | 25.84
Highpoint Trading, Ltd | Federal Tire (Jiangxi) Ltd | 25.84
Hong Kong Tiancheng Investment & Trading Co., Limited | Shandong Linglong Tyre Co., Ltd | 25.84
Hong Kong Tri-Ace Tire Co., Limited. | Shandong Yongtai Chemical Co., Ltd., Doublestar-Dongfeng Tyre Co., Ltd | 25.84
Hwa Fong Rubber (Hong Kong) Ltd | Hwa Fong Rubber (Suzhou) Co., Ltd. | 25.84
Jiangsu Hankook Tire Co., Ltd | Jiangsu Hankook Tire Co., Ltd | 25.84
Kenda Rubber (China) Co., Ltd | Kenda Rubber (China) Co., Ltd | 25.84
Kumho Tire Co., Inc | Kumho Tire (Tianjin) Co., Inc., Nanjing Kumho Tire Co., Ltd., Kumho Tire (Changchun) Co., Inc | 25.84
Mayrun Tyre (Hong Kong) Limited | South China Tire & Rubber Co., Ltd., Shandong Haohua Tire Co., Ltd | 25.84
Nankang (Zhangjiagang Free Trade Zone) Rubber Industrial Co., Ltd | Nankang (Zhangjiagang Free Trade Zone) Rubber Industrial Co., Ltd | 25.84
Pirelli Tyre Co., Ltd | Pirelli Tyre Co., Ltd | 25.84
Qingdao Crown Chemical Co., Ltd | Shandong Guofeng Rubber Plastics Co., Ltd., Shandong Haohua Tire Co., Ltd., Shandong Jinyu Industrial Co., Ltd., Doublestar-Dongfeng Tyre Co., Ltd | 25.84
Qingdao Free Trade Zone Full-World International Trading Co., Ltd | Shandong Zhentai Group Co., Ltd., Longkou Xinglong Tyre Co., Ltd., Hebei Tianrui Rubber Co., Ltd | 25.84
Qingdao Fullrun Tyre Corp. Ltd | Fullrun Tyre Tech Corp., Ltd, Shengtai Group Co., Ltd., Shandong Zhongyi Rubber Co., Ltd., Shandong Guofeng Rubber Plastics Co, Ltd, Deruibao Tire Co., Ltd., Shandong New Continent Tire Co., Ltd, Shandong Fengyuan Tyre Manufacturing Co., Ltd, Sichuan Tyre & Rubber Co., Ltd, Qingdao Futaian Tyre Teck. Co., Ltd., Good Friend Tyre Co., Ltd., Shandong Hengyu Science & Technonology Co., Ltd., Shandong Longyue Rubber Co., Ltd., Shouguang Firemax Tyre Co., Ltd, Beijing Capital Tire Co., Ltd., Shandong Wanda Boto Tyre Co., Ltd, Zhaoqing Junhong Co., Ltd, Shandong Huasheng Rubber Co., Ltd, Shandong Haohua Tire Co., Ltd., Shandong Province Sanli Tire Manufactured Co., Ltd | 25.84
Qingdao Fullrun Tyre Tech Corp., Ltd | Qingdao Fullrun Tyre Tech Corp., Ltd. | 25.84
Qingdao Honghua Tyre Factory | Qingdao Honghua Tyre Factory | 25.84
Qingdao Nama Industrial Co., Ltd | Shandong Guofeng Rubber Plastics Co., Ltd., Shandong Hengyu Science & Technology Co., Ltd., Shandong Longyue Rubber Co., Ltd., Shandong Haohua Tire Co., Ltd., Shouguang Firemax Tyre Co., Ltd., Shandong Zhongyi Rubber Co., Ltd., Shandong Yonking Rubber Co., Ltd., Shandong Hongsheng Rubber Technology Co., Ltd | 25.84
Qingdao Nexen Tire Corporation | Qingdao Nexen Tire Corporation | 25.84
Qingdao Odyking Tyre Co., Ltd | Doublestar-Dongfeng Tyre Co., Ltd., Shandong Fengyuan Tire Manufacturing Co., Ltd., Shouguang Firemax Tyre Co., Ltd | 25.84
Qingdao Qianzhen Tyre Co., Ltd | Qingdao Qianzhen Tyre Co., Ltd | 25.84
Qingdao Qihang Tyre Co., Ltd | Qingdao Qihang Tyre Co., Ltd | 25.84
Qingdao Qizhou Rubber Co., Ltd | Qingdao Qizhou Rubber Co., Ltd | 25.84
Qingdao Sentury Tire Co., Ltd | Qingdao Sentury Tire Co., Ltd | 25.84
Shandong Anchi Tyres Co., Ltd | Shandong Anchi Tyres Co., Ltd | 25.84
Shandong Changfeng Tyres Co., Ltd | Shandong Changfeng Tyres Co., Ltd | 25.84
Shandong Duratti Rubber Corporation Co., Ltd | Shandong Duratti Rubber Corporation Co., Ltd | 25.84
Shandong Guofeng Rubber Plastics Co., Ltd | Shandong Guofeng Rubber Plastics Co., Ltd | 25.84
Shandong Haohua Tire Co., Ltd | Shandong Haohua Tire Co., Ltd | 25.84
Shandong Haolong Rubber Tire Co., Ltd | Shandong Haolong Rubber Tire Co., Ltd | 25.84
Shandong Hawk International Rubber Industry Co., Ltd | Shandong Hawk International Rubber Industry Co., Ltd | 25.84
Shandong Hengyu Science & Technology Co., Ltd | Shandong Hengyu Science & Technology Co., Ltd | 25.84
Shandong Huitong Tyre Co., Ltd | Shandong Huitong Tyre Co., Ltd., Laiwu Sunshine Tyre Co., Ltd | 25.84
Shandong Linglong Tyre Co., Ltd | Shandong Linglong Tyre Co., Ltd | 25.84
Shandong Longyue Rubber Co., Ltd | Shandong Longyue Rubber Co., Ltd | 25.84
Shandong New Continent Tire Co., Ltd | Shandong New Continent Tire Co., Ltd | 25.84
Shandong Province Sanli Tire Manufactured Co., Ltd | Shandong Province Sanli Tire Manufactured Co., Ltd | 25.84
Shandong Shuangwang Rubber Co., Ltd | Shandong Shuangwang Rubber Co., Ltd | 25.84
Shandong Wanda Boto Tyre Co., Ltd | Shandong Wanda Boto Tyre Co., Ltd | 25.84
Shandong Yongtai Chemical Co., Ltd | Shandong Yongtai Chemical Co., Ltd | 25.84
Shandong Zhongyi Rubber Co., Ltd | Shandong Zhongyi Rubber Co., Ltd | 25.84
Shengtai Group Co., Ltd | Shengtai Group Co., Ltd., Shandong Shengshitailai Rubber Technology Co., Ltd | 25.84
Shifeng Juxing Tire Co., Ltd | Shifeng Juxing Tire Co., Ltd | 25.84
Shouguang Firemax Tyre Co., Ltd | Shouguang Firemax Tyre Co., Ltd | 25.84
Southeast Mariner International Co., Ltd | Dongying Zhongyi Rubber Co., Ltd., Shandong Haohua Tire Co., Ltd | 25.84
Techking Tires Limited | Shandong Longyue Rubber Co., Ltd | 25.84
Toyo Tire (Zhangjiagang) Co., Ltd | Toyo Tire (Zhangjiagang) Co., Ltd | 25.84
Triangle Tyre Co., Ltd | Triangle Tyre Co., Ltd | 25.84
Tyrechamp Group Co., Limited | Shandong Haohua Tire Co., Ltd., Sichuan Tyre & Rubber Co., Ltd., Shandong Anchi Tyres Co., Ltd., Beijing Capital Tire Co., Ltd., Shandong Wanda Boto Tyre Co., Ltd., Shandong Wosen Rubber Co., Ltd., Shandong Zhentai Group Co., Ltd., Shandong Yonking Rubber Co., Ltd., Qingdao Doublestar Tire Industrial Co., Ltd., South China Tire & Rubber Co., Ltd., Anhui Heding Tire Technology Co., Ltd | 25.84
Weihai Ping'an Tyre Co., Ltd | Weihai Ping'an Tyre Co., Ltd | 25.84
Weihai Zhongwei Rubber Co., Ltd | Weihai Zhongwei Rubber Co., Ltd | 25.84
Wendeng Sanfeng Tyre Co., Ltd | Wendeng Sanfeng Tyre Co., Ltd | 25.84
Winrun Tyre Co., Ltd | Shaanxi Yanchang Petroleum Group Rubber Co. Ltd | 25.84
Zenith Holdings (HK) Limited | Shandong Linglong Tyre Co., Ltd | 25.84
Zhaoqing Junhong Co., Ltd | Zhaoqing Junhong Co., Ltd | 25.84
PRC-wide Entity* |  | 87.99
*The PRC-wide entity includes, among other companies, Yongsheng, a mandatory respondent in this investigation that did not demonstrate that it is entitled to a separate rate. Accordingly, we consider Yongsheng to be part of the PRC-wide Entity.

Critical Circumstances (AD)

With regard to the ITC's negative critical circumstances determination on imports of passenger tires from the PRC, we will instruct CBP to lift suspension and to refund any cash deposits made to secure the payment of estimated antidumping duties with respect to entries of subject merchandise entered, or withdrawn from warehouse, for consumption on or after October 29, 2014 (i.e., 90 days prior to the date of publication of the AD Preliminary Determination), but before January 27, 2015, (i.e., the date of publication of the AD Preliminary Determination).

Countervailing Duty Order

As stated above, on August 3, 2015, in accordance with section 705(d) of the Act, the ITC notified the Department of its final determination in this investigation, in which it found that an industry in the United States is materially injured within the meaning of section 705(b)(1)(A)(i) of the Act by reason of imports of passenger tires from the PRC, and that critical circumstances do not exist with respect to imports of subject merchandise from the PRC that are subject to the Department's affirmative critical circumstances finding.²⁰ Therefore, in accordance with sections 705(c)(2) and 706(a) of the Act, we are publishing this countervailing duty order.

²⁰ See ITC Notification.

In accordance with section 706(a) of the Act, the Department will direct CBP to assess, upon further instruction by the Department, countervailing duties on unliquidated entries of passenger tires from the PRC entered, or withdrawn from warehouse, for consumption on or after December 1, 2014, the date of publication of the CVD Preliminary Determination in the Federal Register,²¹ and before March 31, 2015, the date on which the Department instructed CBP to discontinue the suspension of liquidation in accordance with section 703(d) of the Act. Section 703(d) of the Act states that the suspension of liquidation pursuant to a preliminary determination may not remain in effect for more than four months. Entries of passenger tires from the PRC made on or after March 31, 2015, and prior to the date of publication of the ITC's final determination in the Federal Register, are not liable for the assessment of countervailing duties, due to the Department's discontinuation, effective March 31, 2015, of the suspension of liquidation.

²¹ See Countervailing Duty Investigation of Certain Passenger Vehicle and Light Truck Tires from the People's Republic of China: Preliminary Affirmative Determination, Preliminary Affirmative Critical Circumstances Determination, in Part, and Alignment of Final Determination with Final Antidumping Duty Determination, 79 FR 71093 (December 1, 2014) (CVD Preliminary Determination).

Provisional Measures (CVD)

In accordance with Section 703(d) of the Act, the provisional measures period for the CVD investigation ended on March 31, 2015 and CBP was instructed to terminate the suspension of liquidation and to liquidate, without regard to countervailing duties, unliquidated entries of passenger vehicle tires from the PRC, entered, or withdrawn from warehouse, for consumption on or after March 31, 2015, the date the provisional measures expired, until and through the day preceding the date of publication of the ITC's final injury determination in the Federal Register.

Suspension of Liquidation (CVD)

In accordance with section 706 of the Act, the Department will direct CBP to reinstitute suspension of liquidation, effective on the date of publication of the ITC's notice of final determination in the Federal Register, and to assess, upon further instruction by the Department pursuant to section 706(a)(1) of the Act, countervailing duties for each entry of the subject merchandise in an amount based on the net countervailable subsidy rates for the subject merchandise. The Department will also direct CBP to require a cash deposit for each entry of subject merchandise in an amount equal to the net countervailable subsidy rates listed below. The all-others rate applies to all producers and exporters of subject merchandise not specifically listed.

Estimated Countervailing Duty Cash Deposit Rates

Company | Cash deposit rate (percent)
GITI Tire (Fujian) Co., Ltd. and certain cross-owned companies ²² | 36.79
Cooper Kunshan Tire Co., Ltd and certain cross-owned companies ²³ | 20.73
Shandong Yongsheng Rubber Group Co., Ltd | 116.33
All-Others | 30.61

Critical Circumstances (CVD)

²² GITI Tire (Fujian) Co., Ltd., and its cross-owned affiliated companies GITI Tire (China) Investment Company Ltd., GITI Radial Tire (Anhui) Company Ltd., GITI Tire (Hualin) Company Ltd., GITI Steel Cord (Hubei) Company Ltd., Anhui Prime Cord Fabrics Company Ltd., GITI Tire Corporation, GITI Tire (Anhui) Company Ltd., GITI Greatwall Tire (Yinchuan) Company Ltd., GITI Steel Cord (Anhui) Company Ltd., Anhui Prime Cord Weaving Company Ltd., and Anhui Prime Cord Twisting Company Ltd.

²³ Cooper Kunshan Tire Co., Ltd., and its cross-owned affiliated company, Cooper Chengshan (Shandong) Tire Co., Ltd.

With regard to the ITC's negative critical circumstances determination on imports of passenger tires from the PRC, we will instruct CBP to lift suspension and to refund any cash deposits made to secure the payment of estimated countervailing duties with respect to entries of the subject merchandise entered, or withdrawn from warehouse, for consumption on or after September 2, 2014 (i.e., 90 days prior to the date of the publication of the CVD Preliminary Determination), but before December 1, 2014 (i.e., the date of publication of the CVD Preliminary Determination).

Notifications to Interested Parties

This notice constitutes the AD and CVD orders with respect to passenger tires from the PRC pursuant to sections 736(a) and 706(a) of the Act. Interested parties can find an updated list of orders currently in effect by either visiting http://enforcement.trade.gov/stats/iastats1.html or by contacting the Department's Central Records Unit, Room B8024 of the main Commerce Building.

These orders and the amended AD Final Determination and amended CVD Final Determination are published in accordance with sections 705(e), 706(a), 735(e), 736(a), and 777(i) of the Act, and 19 CFR 351.211(b) and 351.224(e).

Dated: August 4, 2015.
Ronald K. Lorentzen,
Acting Assistant Secretary for Enforcement and Compliance.

[FR Doc. 2015-19615 Filed 8-7-15; 8:45 am]

BILLING CODE 3510-DS-P